INTERNATIONAL TRADE COMMISSION

[Investigation Nos. 731-TA-624 and 625 (Third Review)]

Helical Spring Lock Washers From China and Taiwan

Determination

On the basis of the record ¹ developed in the subject five-year reviews, the United States International Trade Commission (Commission) determines, pursuant to section 751(c) of the Tariff Act of 1930 (19 U.S.C. 1675(c)), that revocation of the antidumping duty orders on helical spring lock washers from China and Taiwan would be likely to lead to continuation or recurrence of material injury to an industry in the United States within a reasonably foreseeable time.²

¹ The record is defined in sec. 207.2(f) of the Commission's Rules of Practice and Procedure (19 CFR 207.2(f)).

² Chairman Deanna Tanner Okun and Commissioner Daniel R. Pearson dissenting with respect to helical spring lock washers from Taiwan.

Background

The Commission instituted these reviews on June 1, 2011 (76 FR 31629) and determined on September 6, 2011, that it would conduct expedited reviews (76 FR 57075, September 15, 2011).

The Commission transmitted its determinations in these reviews to the Secretary of Commerce on November 18, 2011. The views of the Commission are contained in USITC Publication 4276 (November 2011), entitled Helical Spring Lock Washers from China and Taiwan: Investigation Nos. 731-TA-624 and 625 (Third Review).

By order of the Commission.
Issued: November 18, 2011.
James R. Holbein,
Secretary to the Commission.

[FR Doc. 2011-30319 Filed 11-23-11; 8:45 am]

BILLING CODE P